DEPARTMENT OF ENERGY

Quadrennial Technology Review Workshop

AGENCY: Office of the Under Secretary for Science and Energy, Quadrennial Technology Review Task Force, Department of Energy.

ACTION: Notice of open meeting and request for public comment.

SUMMARY: The Department of Energy (DOE) is conducting a comprehensive assessment of science and energy technology research, development, demonstration, and deployment (RD3) opportunities to address our nation's energy-linked economic, environmental, and security challenges. This comprehensive document—the 2015 edition of the DOE's Quadrennial Technology Review, or QTR-2015—is examining an “all of the above” range of energy technologies to inform the configuration of the Department's programs and priorities, industry and university engagement, and national lab activities, and will serve as a key input into the Department's forthcoming Science and Energy Plan.

DATES: A series of open meetings will be held between February 11 and March 4 to describe work in progress. Written comments should be submitted on or before March 9, 2015.

ADDRESSES: The meetings will be held via webinar and conference call. The schedule and the web links will be provided at http://www.energy.gov/qtr by February 10.

Comments may be submitted electronically to: DOE-QTR2015@hq.doe.gov or by U.S. mail to the Office of the Under Secretary of Science and Energy, S-4, QTR Meeting Comments, U.S. Department of Energy, 1000 Independence Avenue SW., Washington, DC 20585-0121.

FOR FURTHER INFORMATION CONTACT: Dr. Sam Baldwin, S-4, U.S. Department of Energy, Office of the Under Secretary for Science and Energy, 1000 Independence Avenue SW., Washington, DC 20585-0121. Telephone: (202) 586-0927. Email: DOE-QTR2015@hq.doe.gov.

SUPPLEMENTARY INFORMATION: The nation faces serious energy-linked economic, environmental, and security challenges. Addressing these challenges requires an aggressive plan for our science and energy enterprise while ensuring that America maintains its leadership in a broad range of science and technology activities. These activities include basic and applied research in the physical sciences, developing the next generation of computational technology and developing and maintaining world class scientific user facilities. The output of the QTR process will be coordinated with the Quadrennial Energy Review (QER). These planning products will build and extend existing strategic, program and budget planning activities within the Science and Energy offices and are expected to inform ongoing budget discussions.

The QTR 2015, focusing on DOE energy technology RDD&D activities, builds upon the first QTR in 2011, and complements the work of the QER, which focuses on government-wide energy policy. The 2011 QTR was developed in response to the Report to the President on “Accelerating the Pace of Change in Energy Technologies through an Integrated Federal Energy Policy” by the President's Council of Advisors on Science and Technology. The first QTR defined a framework for understanding and discussing energy system challenges, established a set of priorities for the Department, and explained to stakeholders the roles of DOE and the national laboratories, the broader government, the private sector, academia, and innovation in energy transformation.

QTR 2015 will describe the nation's energy landscape and the dramatic changes that have taken place in the last four years. Specifically, it will begin by building on the first QTR and identifying what has changed in the technologies reviewed within it since 2011. It will then identify the RDD&D activities, opportunities, and pathways forward to help address our national energy challenges. QTR 2015 will approach the analysis from a strong systems perspective, it will explore the integration of science and energy technology RDD&D, it will examine cross-cutting technology RDD&D, and it will conduct an integrated analysis of RDD&D opportunities.

The Department of Energy has the largest role in the Federal Government in conducting energy RDD&D. Many other executive departments and agencies also play important roles in developing and implementing energy RDD&D. In addition, non-Federal actors are crucial contributors to energy RDD&D.

Purpose of the Meeting: The purpose of these meetings is to provide input to the content of the Quadrennial Technology Review document.

List of Webinars: Individual Webinars will be held for each of the following chapters in the QTR document:

Chapter 1—Energy Challenges

Chapter 2—What has Changed Since QTR-2011

Chapter 3—Energy Systems and Strategies

Chapter 4—Cleaner and Safer Fuel Production

Chapter 5—Enabling Modernization of the Electric Power System

Chapter 6—Clean Electric Power Technologies

Chapter 7—Increasing Efficiency of Building Systems and Technologies

Chapter 8—Increasing Efficiency and Effectiveness of Industry and Manufacturing

Chapter 9—Transportation

Chapter 10—Enabling Capabilities for Science and Energy

Chapter 11—U.S. Competitiveness and R&D Needs

Chapter 12—Integrated Analysis

Chapter 13—Accelerating Science and Energy RDD&D

Public Participation: The Quadrennial Technology Review Task Force welcomes the attendance of the public for these webinars. Due to time constraints, we will only be able to provide clarifying remarks. Written comments are welcome and encouraged. Webinar materials will be posted at http://www.energy.gov/qtr following the presentation.

Submitting comments via email. Any contact information provided in your email submission will not be publicly viewable except for your first and last names, organization name (if any), and submitter representative name (if any). Your contact information will be publicly viewable if you include it in the comment itself or in any documents attached to your comment. Any information that you do not want to be publicly viewable should not be included in your comment, nor in any document attached to your comment. Otherwise, persons viewing comments will see only first and last names, organization names, correspondence containing comments, and any documents submitted with the comments.

If you do not want your personal contact information to be publicly viewable, do not include it in your comment or any accompanying documents. Instead, provide your contact information in a cover letter. Include your first and last names, email address, telephone number, and optional mailing address. The cover letter will not be publicly viewable as long as it does not include any comments.

Include contact information each time you submit comments, data, documents, and other information to DOE. If you submit via mail or hand delivery/courier, please provide all items on a CD, if feasible, in which case it is not necessary to submit printed copies. No telefacsimiles (faxes) will be accepted.

Comments, data, and other information submitted to DOE electronically should be provided in PDF (preferred), Microsoft Word or Excel, WordPerfect, or text (ASCII) file format. Provide documents that are not secured, written in English, and are free of any defects or viruses. Documents should not contain special characters or any form of encryption and, if possible, they should carry the electronic signature of the author.

Confidential Business Information. Pursuant to 10 CFR 1004.11, any person submitting information that he or she believes to be confidential and exempt by law from public disclosure should submit via email, postal mail, or hand delivery/courier two well-marked copies: One copy of the document marked “confidential” including all the information believed to be confidential, and one copy of the document marked “non-confidential” with the information believed to be confidential deleted. Submit these documents via email or on a CD, if feasible. DOE will make its own determination about the confidential status of the information and treat it according to its determination. Confidential information should be submitted to the Confidential QTR email address: DOE-QTR2015-Confidential@hq.doe.gov.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest. It is DOE's policy that all comments may be included in the public docket, without change and as received, including any personal information provided in the comments (except information deemed to be exempt from public disclosure).

Issued in Washington, DC on January 30, 2015.
Michael L. Knotek,
Deputy Under Secretary for Science and Energy, Office of the Under Secretary for Science and Energy.

[FR Doc. 2015-02307 Filed 2-4-15; 8:45 am]

BILLING CODE 6450-01-P